DEPARTMENT OF AGRICULTURE

Agricultural Marketing Service

[Doc. Number AMS-FV-10-0047, FV-16-330]

United States Standards for Grades of Cauliflower

AGENCY: Agricultural Marketing Service, USDA.

ACTION: Notice.

SUMMARY: The Agricultural Marketing Service (AMS) is proposing to revise the United States Standards for Grades of Cauliflower. The current U.S. grade standards do not have provisions for grading purple, orange, or green cauliflower. The proposed revision would amend the color requirement to allow all colors of cauliflower to be certified to a U.S. grade. In addition, AMS proposes to amend the size requirement to allow curds less than 4 inches in diameter to be certified to a grade; to add marking requirements to sizes less than 4 inches in diameter; and, to remove the unclassified section.

DATES: Comments must be received by July 8, 2016.

ADDRESSES: Interested persons are invited to submit written comments to the Standardization Branch, Specialty Crops Inspection Division, Specialty Crops Program, Agricultural Marketing Service, U.S. Department of Agriculture, National Training and Development Center, Riverside Business Park, 100 Riverside Parkway, Suite 101, Fredericksburg, VA 22406; fax: (540) 361-1199; or, via the web at: www.regulations.gov. Comments should reference the dates and page number of this issue of the Federal Register and will be made available for public inspection in the above office during regular business hours. Comments can also be viewed as submitted, including any personal information you provide, on the www.regulations.gov Web site. A copy of the proposed revised United States Standards for Grades of Cauliflower is located at http://www.regulations.gov.

FOR FURTHER INFORMATION CONTACT: Dave Horner at the address above, or at phone (540) 361-1128; fax (540) 361-1199; or, email Dave.Horner@ams.usda.gov. Copies of the proposed U.S. Standards for Grades of Cauliflower are available on the Internet at http://www.regulations.gov. The current U.S. Standards for Grades of Cauliflower are available on the Specialty Crops Inspection Division Web site at http://www.ams.usda.gov/grades-standards/cauliflower-grades-and-standards.

SUPPLEMENTARY INFORMATION: Section 203(c) (7 U.S.C. 1622(c)) of the Agricultural Marketing Act of 1946 (7 U.S.C. 1621-1627), as amended, directs and authorizes the Secretary of Agriculture “to develop and improve standards of quality, condition, quantity, grade, and packaging, and recommend and demonstrate such standards in order to encourage uniformity and consistency in commercial practices.” AMS is committed to carrying out this authority in a manner that facilitates the marketing of agricultural commodities and makes copies of official standards available upon request. The United States Standards for Grades of Fruits and Vegetables not connected with Federal marketing orders or U.S. import requirements no longer appear in the Code of Federal Regulations, but are maintained by USDA, AMS, Specialty Crops Program, and are available on the internet at http://www.ams.usda.gov/grades-standards.

AMS proposes to revise the voluntary United States Standards for Grades of Cauliflower using the procedures that appear in Part 36, Title 7 of the Code of Federal Regulations (7 CFR part 36). These standards were last revised March 15, 1968.

Background and Comments

On February 9, 2012, AMS published a notice in the Federal Register (77 FR 6772) soliciting comments on proposed revisions to the United States Standards for Grades of Cauliflower. AMS received one comment from an agricultural trade association. The agricultural trade association stated that by number, but not necessarily by volume, cauliflower growers supported the proposed revision. However, members expressed some confusion about the meaning of “unless otherwise specified” in regards to size, and requested clarification. Following the comment period, AMS determined it would not proceed with the revisions as proposed.

The U.S. grade standards presently require cauliflower curds to be white, creamy white, or cream color, but do not have provisions for grading other colors of cauliflower. AMS proposes to amend U.S. No. 1 color provisions by adding “unless otherwise specified” to the basic requirement for color. The phrase “unless otherwise specified” in regards to color would be interpreted as follows: When colors other than white, creamy white, or cream color are specified, those colors could be certified to a grade. Likewise, when designated as a mixed-color pack, a grade could be applied to all the colors in the pack, not just to the curds that are white, creamy white, or cream color. For example, a grade could be applied to a pack containing a green, an orange, a purple, and a white cauliflower curd when specified as a mixed-color pack. AMS applies the phrase “unless otherwise specified,” or similar terminology, to potatoes, peppers, and other commodities to allow other colors, or the comingling of colors, to be certified to a grade. This revision would also affect the U.S. Commercial grade.

Previously, in 2012, AMS proposed to add “unless otherwise specified” to the size requirement for the U.S. No. 1 grade to allow for smaller sizes. This too is a common practice for potatoes, onions, and many other commodities. However, after contacting the agricultural trade association, AMS discovered that they were concerned that unmarked containers with curds smaller than 4 inches may lose their specified designation after being resold to another party. For example, the original verbal or contractual agreement might not follow the product through the marketing chain. At final destination, unmarked product may fail to grade U.S. No. 1, since the cauliflower curds would be smaller than 4 inches in diameter.

Therefore, AMS now proposes to amend the U.S. No. 1 size provisions for cauliflower heads by adding “unless marked to a maximum diameter of less than 4 inches. Cauliflower curds marked less than 4 inches may not be comingled with cauliflower curds packed to be 4 inches or larger.” to the basic requirement for curd size. To explain the marking requirements, AMS proposes to add a new “§ 51.556 Marking Requirements,” which would read as follows: “When the product is packed to be less than 4 inches in maximum diameter, 90 percent or more of the master containers shall be plainly stamped, printed, labeled or otherwise marked with the maximum diameter. The term `maximum' or its recognized abbreviation, when following a diameter size marking, means that the curds are of the size marked or smaller.” The current § 51.556, Metric Conversion Table, will be redesignated as § 51.557.

The size revision and marking requirements would be interpreted as follows: When cauliflower curds are specified to be less than 4 inches in maximum diameter, at least 90 percent of the master containers in a lot must be marked by a maximum diameter of less than 4 inches. For example, a lot having curds no larger than 3½ inches in diameter must have 90 percent or more of the master containers marked 3½″ max. If less than 90 percent of the master containers are marked, the lot may meet grade requirements but would fail to meet marking requirements as to size.

Furthermore, curds that are specified to be less than 4 inches in maximum diameter would not include cauliflower florets, since florets are pieces of curd and not considered small heads of cauliflower. Therefore, florets would not be certified to a grade.

This revision would also affect the U.S. Commercial grade.

The agricultural trade association had no objection to removing the “Unclassified” category from the standards. The unclassified section is being removed from all standards when they are revised. This category is not a grade and only serves to show that no grade has been applied to the lot. It is no longer considered necessary.

AMS believes that permitting all colors, mixed-color packs, and smaller sizes of cauliflower to be certified to a grade reflects current marketing practices and consumer demand, and will facilitate the marketing of cauliflower by providing the industry with more flexibility.

The official grade of a lot of cauliflower covered by these standards will be determined by the procedures set forth in the Regulations Governing Inspection, Certification, and Standards of Fresh Fruits, Vegetables and Other Products (Sec. 51.1 to 51.61).

This notice provides a 60-day period during which interested parties may comment on the proposed revisions to the standards. This period is deemed appropriate in order to implement these changes, if adopted, as soon as possible to reflect current marketing practices.

Authority: 7 U.S.C. 1621-1627.

Dated: May 3, 2016.
Elanor Starmer,
Administrator.

[FR Doc. 2016-10741 Filed 5-6-16; 8:45 am]

BILLING CODE 3410-02-P